DEPARTMENT OF DEFENSE

Department of the Navy

Notice of Intent To Prepare an Environmental Impact Statement/Legislative Environmental Impact Statement for Renewal of the Naval Air Weapons Station China Lake Public Land Withdrawal, California and To Announce Public Scoping Meetings

AGENCY: Department of the Navy, DoD.

ACTION: Notice.

SUMMARY: Pursuant to section 102(2)(c) of the National Environmental Policy Act (NEPA) of 1969 as implemented by the Council on Environmental Quality Regulations (40 Code of Federal Regulations [CFR] parts 1500-1508), the Department of the Navy (DoN), with the cooperation of the Bureau of Land Management (BLM), announces its intent to prepare an Environmental Impact Statement/Legislative Environmental Impact Statement (EIS/LEIS) to evaluate the potential environmental effects associated with the continued withdrawal of approximately 1.1 million acres of public land in Kern, Inyo, and San Bernardino counties, California. This public land withdrawal comprises the current North and South ranges at Naval Air Weapons Station China Lake (NAWSCL). The proposed land withdrawal extension will allow the DoN to continue defense-related research, development, test and evaluation (RDT&E) and training missions at NAWSCL, in addition to other land uses.

The California Military Lands Withdrawal and Overflights Act of 1994 (Pub. L. 103-433, part of the California Desert Protection Act) withdrew and reserved the lands known then as the China Lake Naval Weapons Center (subsequently renamed NAWSCL) for defense-related purposes for a period of 20 years (until October 14, 2014). The Act provides that the DoN may seek extension of the withdrawal of such lands. As a part of the withdrawal process, the Secretary of the Navy is required to publish a draft EIS addressing the effects of continued withdrawal and hold public hearings in order to receive public comments on the proposal by October 12, 2012. The NAWSCL EIS/LEIS will examine current and proposed land uses in support of the DoN's military mission. The EIS/LEIS will specifically focus on those military land uses granted to the DoN under Public Law 103-433 that include: (1) Use as an RDT&E laboratory; (2) use as a range for air warfare weapons and weapons systems; (3) use as a high hazard training area for aerial gunnery, rocketry, electronic warfare and countermeasures, and tactical maneuvering and air support; (4) geothermal leasing and development, and related power production activities; and, (5) other defense-related purposes. The environmental analysis in the EIS/LEIS will be incorporated in an update to the May 2005 NAWSCL Comprehensive Land Use Management Plan (CLUMP). The CLUMP facilitates NAWSCL in planning for and managing land use and environmental resources on the withdrawn public lands in accordance with the Federal Land Policy and Management Act of 1976 (FLPMA) (43 U.S.C. 1701). The updated CLUMP will include an examination of both military land uses authorized under Public Law 103-433 and those mission-compatible non-military land uses authorized in the 2005 CLUMP.

Dates and Addresses: The DoN is initiating a 90-day public scoping process to identify community interests and specific issues to be addressed in the EIS/LEIS. This public scoping process starts with the publication of this Notice of Intent. Three public scoping meetings will be held to receive oral and/or written comments on issues to be addressed in the EIS/LEIS:

1. Tuesday, July 19, 2011, 6 p.m. to 8 p.m., Historic USO Building, 230 West Ridgecrest Boulevard, Ridgecrest, California 93555;

2. Wednesday, July 20, 2011, 6 p.m. to 8 p.m., Statham Hall, 138 Jackson Street, Lone Pine, California 93545; and

3. Thursday, July 21, 2011, 6 p.m. to 8 p.m., Trona Community Senior Center, 13187 Market Street, Trona, California 93562.

Additional information concerning meeting times and locations is available on the NAWSCL EIS/LEIS Web site at http://www.ChinalakeLEIS.com. Public scoping meeting schedules and locations will also be announced in local newspapers.

Each of the public scoping meetings will consist of an informal, open house session with information stations staffed by DoN and BLM representatives. Comments, both written and oral, will be collected at each of the three public scoping meetings and on the project Web site.

FOR FURTHER INFORMATION CONTACT: NAWSCL Land Withdrawal EIS/LEIS Project Manager (Attn: Ms. Jo Ellen Anderson), NAVFAC Southwest, 1220 Pacific Highway, San Diego, CA 92132-5178, telephone number: 619-532-2633.

SUPPLEMENTARY INFORMATION: The NAWSCL North and South ranges are located in the western Mojave Desert, approximately 150 miles northeast of Los Angeles, California. These ranges encompass approximately 1.1 million acres and are located in portions of Inyo, Kern, and San Bernardino counties. The DoN has been operating the NAWSCL land ranges for nearly 70 years.

The California Military Lands Withdrawal and Overflights Act of 1994 authorized the withdrawal of the public lands associated with the NAWSCL ranges for a period of 20 years (until October 14, 2014). The military land uses specifically allowed under the Act included: (1) Use as an RDT&E laboratory; (2) use as a range for air warfare weapons and weapons systems; (3) use as a high hazard training area for aerial gunnery, rocketry, electronic warfare and countermeasures, and tactical maneuvering and air support; (4) use for geothermal leasing and development, and related power production activities; and, (5) use for other defense-related purposes.

In May 2005, pursuant to the requirements of Public Law 103-433 and FLPMA, NAWSCL completed and endorsed a comprehensive land use management plan for the withdrawn public lands. This land use management plan is referred to as the NAWSCL CLUMP. In addition to the military land uses granted to the DoN in Public Law 103-433, the 2005 CLUMP authorized the following non-military, but mission-compatible land uses, on the ranges: (1) Native American access; (2) education and research projects; (3) limited recreation; and (4) limited commercial uses, including geothermal leasing and development, and related power production activities.

The military land uses authorized by Public Law 103-433 and the non-military uses authorized by the 2005 CLUMP are consistent with the mission of NAWSCL, which is to conduct weapons RDT&E for weapon systems associated with air warfare, aircraft weapons integration, missiles and missile subsystems, and assigned airborne electronic warfare systems and related training within a safe, secure, and operationally diverse land range test environment. Combat relevant test and evaluation, as well as training for operational compatibility, is the primary means to ensure readiness and prepare our military to fight and win in combat. To be effective in its mission, the NAWSCL ranges must provide sufficient land and airspace to conduct test and evaluation at distances and scenarios with fidelity to combat uses. Access to a variety of conditions (e.g., simulated threats, operational space, topographic relief, and safety constraints) and scheduling availability are important characteristics that must be preserved and enhanced. The DoN's continuing need for RDT&E and training range capability balances maximum use of the range with maintaining stewardship responsibilities for the lands and their resources.

In accordance with the Engle Act of 1958 (Pub. L. 85-337) and FLPMA, the DoN is required to file an application with BLM requesting the Secretary of the Interior process a proposed legislative withdrawal and reservation of public land to continue military RDT&E and training activities on the NAWSCL ranges. The proposed action would continue the existing withdrawal of 1.1 million acres of public land for military use. The public land would be withdrawn from all forms of appropriation under the public land laws, including surface entry, mining, mineral leasing, and the Materials Act of 1947.

Purpose and Need: Given the primary mission of the NAWSCL land ranges, to provide a safe, secure, and highly instrumented volume of land and airspace in which to conduct controlled tests, operations and training with fidelity to combat uses, the purpose of the proposed action is to retain a military range for RDT&E and training activities for a period of 25 years. The proposed action will meet the need to support the application of current and evolving technology to solve theatre-relevant problems for the warfighter and ensure necessary training readiness, while ensuring appropriate management of land use and environmental resources; revise and implement the installation's CLUMP; and, maintain DoN readiness by accommodating current and evolving state-of-the-art RDT&E and training requirements at NAWSCL.

Alternatives: The EIS/LEIS addresses three alternatives, including the no action alternative:

1. Alternative 1 (Withdrawal with Increased Tempo) consists of: (1) Congressional renewal of the current land withdrawal of approximately 1.1 million acres of public land for continued military use; (2) revision to and implementation of the NAWSCL CLUMP to reflect current and future land uses, both military and non-military; and (3) an increase of up to 25% in the tempo of military RDT&E, training activities (including ground and air training by DoN special operations forces and other Services), and expansion of unmanned aerial and surface systems, as well as the expansion of existing and the introduction of evolving directed energy weapons development at NAWSCL.

2. Alternative 2 (Withdrawal with Baseline Tempo) consists of: (1) Renewing (through Congressional action) the land withdrawal; (2) revising and implementing the NAWSCL CLUMP; and, (3) maintaining current levels of RDT&E and training use (type, tempo, location).

3. Alternative 3 (No Action Alternative) would allow the public land withdrawal to expire, with administrative control of the withdrawn land returning to the BLM. Withdrawn lands would comprise 92% of all NAWSCL lands. Limited RDT&E and training activities at NAWSCL would continue on 8% of remaining NAWSCL fee-owned/leased land and within managed airspace.

Environmental Issues and Resources To Be Examined: Environmental issues that will be addressed in the EIS/LEIS include, but are not limited to, the following: Air quality; biological resources (including threatened and endangered species); cultural resources; geology and soils; hazardous materials and hazardous waste management; health and safety; noise; socioeconomics (including environmental justice); transportation; and water resources. Relevant and reasonable measures that would avoid or mitigate environmental effects will also be analyzed. Additionally, the DoN will undertake any consultations required by the Endangered Species Act, National Historic Preservation Act, Clean Water Act, and any other applicable law or regulation.

Submitting Comments: The DoN encourages interested persons to submit comments concerning the proposed extension of the public land withdrawal, the alternatives proposed for study, and environmental impacts to be analyzed. Federal, state, and local agencies, Native Americans and Federally Recognized Tribes, and interested persons are encouraged to provide oral and/or written comments to the DoN to identify specific environmental issues or topics of environmental concern that the DoN should consider. The DoN will prepare the draft LEIS incorporating issues identified by the commenting public. All comments on the EIS/LEIS, whether provided orally or in writing at the scoping meetings, or provided to the DoN during the public commenting period, will receive the same consideration during EIS/LEIS preparation.

Written comments on the scope of the EIS/LEIS should be postmarked no later than September 8, 2011. Comments may be mailed to NAWSCL Land Withdrawal EIS/LEIS Project Manager (Attn: Ms. Jo Ellen Anderson), NAVFAC Southwest, 1220 Pacific Highway, San Diego, California 92132-5178. Comments may also be submitted via the EIS/LEIS Web site located at http://www.ChinalakeLEIS.com.

Dated: June 3, 2011.
D.J. Werner,
Lieutenant Commander, Office of the Judge Advocate General, U.S. Navy, Alternate Federal Register Liaison Officer.

[FR Doc. 2011-14449 Filed 6-9-11; 8:45 am]

BILLING CODE 3810-FF-P